DEPARTMENT OF HEALTH AND HUMAN SERVICES

Administration For Children and Families

Announcement of the Award of a Replacement Grant

AGENCY: Office of Community Services (OCS), ACF, DHHS.

ACTION: Announcement of the award of a replacement grant from the Office of Community Services to Humboldt State University Sponsored Programs Foundation, Arcata, CA, under the Strengthening Communities Fund program.

CFDA Number: 93.711.

Statutory Authority: Section 1110 of the Social Security Act governing Social Services Research and Demonstration activities; Title VIII of the American Recovery and Reinvestment Act (ARRA) of 2009, Public Law 111-5. (http://frwebgate.access.gpo.gov/cgi-bin/getdoc.cgi?dbname=111_cong_bills&docid=f:h1enr.pdf)

SUMMARY: The Administration of Children and Family (ACF), Office of Community Services (OCS), announces the award of a replacement grant under the Strengthening Communities Fund (SCF) for the State, Local, and Tribal Government Capacity Building Program grant to Humboldt State University Sponsored Programs Foundation, Arcata, CA. Humboldt State is an eligible designate of the Governor's Office on Economic Development in California.

California Volunteers, Inc., Sacramento CA was originally awarded an FY 2009 grant as the result of a competition under the SCF program. In October 2010, California Volunteers submitted a letter relinquishing their grant.

Humboldt State University Sponsored Programs Foundation submitted their letter along with their grant application requesting approval as the replacement grantee. OCS reviewed the application from Humboldt State University Sponsored Programs Foundation and found that the proposed project is significantly similar to the one initially chosen for the award. ACF, OCS now announces that Humboldt State University Sponsored Programs Foundation has been awarded the grant in the amount of $233,866 as the permanent successor grantee for the remainder of the project period, which will end on September 29, 2011.

Under the award, Humboldt State University Sponsored Programs Foundation will continue to provide coordinated, timely capacity-building outreach, training and technical assistance to faith-based and community organizations in California.

FOR FURTHER INFORMATION CONTACT: Thom Campbell, Program Manager, Office of Community Services, 901 D Street, SW., Washington, DC 20047. Telephone: (202) 401-5483; E-mail: Thom.Campbell@acf.hhs.gov. Additional information about this program and its purpose can be located on the following Web site: http://www.acf.hhs.gov/programs/ocs/scf/index.html.

Dated: May 17, 2011.
Yolanda J. Butler,
Acting Director, Office of Community Services.

[FR Doc. 2011-12894 Filed 5-24-11; 8:45 am]

BILLING CODE 4184-27-P